DEPARTMENT OF COMMERCE

National Telecommunications and Information Administration

Commerce Spectrum Management Advisory Committee Meeting

AGENCY: National Telecommunications and Information Administration, U.S. Department of Commerce.

ACTION: Notice of open meeting.

SUMMARY: This notice announces a public meeting of the Commerce Spectrum Management Advisory Committee (Committee). The Committee provides advice to the Assistant Secretary of Commerce for Communications and Information on spectrum management policy matters.

DATES: The meeting will be held on July 27, 2011, from 1 p.m. to 4 p.m., Mountain Daylight Savings Time.

ADDRESSES: The meeting will be held at the Institute for Telecommunication Sciences, Conference Room 1107, 325 Broadway, Boulder, Colorado. Public comments may be mailed to Commerce Spectrum Management Advisory Committee, National Telecommunications and Information Administration, 1401 Constitution Avenue, NW., Room 4099, Washington, DC 20230 or e-mailed to spectrumadvisory@ntia.doc.gov.

FOR FURTHER INFORMATION CONTACT: Bruce M. Washington, Designated Federal Officer, at (202) 482-6415 or BWashington@ntia.doc.gov; and/or visit NTIA's Web site at http://www.ntia.doc.gov/advisory/spectrum.

SUPPLEMENTARY INFORMATION: Background: The Committee provides advice to the Assistant Secretary of Commerce for Communications and Information on needed reforms to domestic spectrum policies and management in order to: license radio frequencies in a way that maximize their public benefits; keep wireless networks open to innovation as possible; and make wireless services available to all Americans (See charter, at http://www.ntia.doc.gov/advisory/spectrum/csmac_charter.html). This Committee is subject to the Federal Advisory Committee Act (FACA), 5 U.S.C. App. 2, and is consistent with the National Telecommunications and Information Administration Act, 47 U.S.C. 904(b). The Committee functions solely as an advisory body in compliance with the FACA. For more information about the Committee visit: http://www.ntia.doc.gov/advisory/spectrum.

Matters To Be Considered: The Committee will receive recommendations from sub-committees on matters related to the accomplishment of the President's ten-year goal of identifing 500 megahertz for wireless broadband. The Sharing, Unlicensed, and Spectrum Management Improvements Sub-committees will provide an in-progress report on the status of their determinations and findings and facilitate discussion on recommended next steps. NTIA will post a detailed agenda on its Web site, http://www.ntia.doc.gov, prior to the meeting. There also will be an opportunity for public comment at the meeting.

Time and Date: The meeting will be held on July 27, 2011 from 1 p.m. to 4 p.m., Mountain Daylight Savings Time. The times and the agenda topics are subject to change. The meeting may be webcast or made available via audio link. Please refer to NTIA's Web site, http://www.ntia.doc.gov, for the most up-to-date meeting agenda and access information.

Place: The meeting will be held at the Institute for Telecommunication Sciences, Conference Room 1107, 325 Broadway, Boulder, Colorado. The meeting will be open to the public and press on a first-come, first-served basis. Space is limited. The public meeting is physically accessible to people with disabilities. Individuals requiring accommodations, such as sign language interpretation or other ancillary aids, are asked to notify Mr. Washington, at (202) 482-6415 or BWashington@ntia.doc.gov, at least five (5) business days before the meeting. In order to gain access to the site (ITS), all attendees are required to have two forms of identification (one MUST be a photo). Details regarding access to the facility are available at http://www.boulder.nist.gov/police/Foreign_Nationals.html.

Status: Interested parties are invited to attend and to submit written comments to the Committee at any time before or after the meeting. Parties wishing to submit written comments for consideration by the Committee in advance of this meeting must send them to NTIA's Washington, DC office at the above-listed address and comments must be received by close of business on July 18, 2011, to provide sufficient time for review. Comments received after July 18, 2011, will be distributed to the Committee, but may not be reviewed prior to the meeting. Paper submissions must also include a compact disc (CD) in HTML, ASCII, Word or WordPerfect format. CDs must be labeled with the name and organizational affiliation of the filer, and the specified name of the word processing program and version used to create the document. Alternatively, comments may be submitted electronically to spectrumadvisory@ntia.doc.gov. Comments provided via electronic mail also may be submitted in one or more of the formats specified above.

Records: NTIA maintains records of all Committee proceedings. Committee records are available for public inspection at the U.S. Department of Commerce, National Telecommunications and Information Administration, 1401 Constitution Avenue, NW., Washington, DC. Documents including the Committee's charter, membership list, agendas, minutes, and any reports are available on NTIA's Committee Web page at http://www.ntia.doc.gov/advisory/spectrum.

Dated: June 27, 2011.
Kathy D. Smith,
Chief Counsel, National Telecommunications and Information Administration.

[FR Doc. 2011-16542 Filed 6-30-11; 8:45 am]

BILLING CODE 3510-60-P